FEDERAL MARITIME COMMISSION

Ocean Transportation Intermediary License; Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR Part 515, effective on the corresponding date shown below:

License Number: 011360N.

Name: Hirdes Freight Ltd.

Address: 855 Arthur Ave., Elk Grove Village, IL 60007.

Date Revoked: September 27, 2006.

Reason: Surrendered license voluntarily.

License Number: 017999N.

Name: Kerry Freight (USA) Inc.

Address: 147-45 Farmers Blvd., Ste. 201, Jamaica, NY 11434.

Date Revoked: September 28, 2006.

Reason: Surrendered license voluntarily.

License Number: 018641F.

Name: Sun Ocean Lines, Inc.

Address: 13084 SW. 21st Street, Miramar, FL 33027.

Date Revoked: October 2, 2006.

Reason: Surrendered license voluntarily.

Sandra L. Kusumoto,
Director, Bureau of Certification and Licensing.

[FR Doc. E6-17365 Filed 10-17-06; 8:45 am]

BILLING CODE 6730-01-P